DEPARTMENT OF LABOR

Employment and Training Administration

[TA-W-53,972]

Colonial Metals Co., Columbia, PA; Notice of Termination of Investigation

Pursuant to section 221 of the Trade Act of 1974, as amended, an investigation was initiated on January 9, 2004, in response to a petition filed by a company official on behalf of workers at Colonial Metals Company, Columbia, Pennsylvania.

The petitioner has requested that the petition be withdrawn. Consequently the investigation has been terminated.

Signed at Washington, DC, this 17th day of February 2003.
Richard Church,
Certifying Officer, Division of Trade Adjustment Assistance.

[FR Doc. 04-4972 Filed 3-4-04; 8:45 am]

BILLING CODE 4510-30-P